SECURITIES AND EXCHANGE COMMISSION

[Release No. IC—30738]

Notice of Applications for Deregistration Under Section 8(f) of the Investment Company Act of 1940

September 27, 2013.

The following is a notice of applications for deregistration under section 8(f) of the Investment Company Act of 1940 for the month of September 2013. A copy of each application may be obtained via the Commission's Web site by searching for the file number, or for an applicant using the Company name box, at http://www.sec.gov/search/search.htm or by calling (202) 551-8090. An order granting each application will be issued unless the SEC orders a hearing. Interested persons may request a hearing on any application by writing to the SEC's Secretary at the address below and serving the relevant applicant with a copy of the request, personally or by mail. Hearing requests should be received by the SEC by 5:30 p.m. on October 22, 2013, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street NE., Washington, DC 20549-1090.

For Further Information Contact: Diane L. Titus at (202) 551-6810, SEC, Division of Investment Management, Exemptive Applications Office, 100 F Street NE., Washington, DC 20549-8010.

Claymore China Strategy Fund

[File No. 811-22124]

Summary: Applicant, a closed-end investment company, seeks an order declaring that it has ceased to be an investment company. Applicant has never made a public offering of its securities and does not propose to engage in any business activity other than those necessary for winding up it affairs.

Filing Date: The application was filed on September 17, 2013.

Applicant's Address: 2455 Corporate West Drive, Lisle, IL 60532.

Dominion Funds, Inc.

[File No. 811-6727]

Summary: Applicant seeks an order declaring that it has ceased to be an investment company. On June 27, 2013, applicant made a liquidating distribution to its shareholders, based on net asset value. Expenses of $2,970 incurred in connection with the liquidation were paid by applicant and its investment adviser.

Filing Date: The application was filed on September 11, 2013.

Applicant's Address: c/o Fairfax Global Markets, LLC, 2 West Washington St., Middleburg, VA 20118.

Grosvenor Registered Multi-Strategy Fund (TE), LLC

[File No. 811-22354]

Summary: Applicant, a closed-end investment company, seeks an order declaring that it has ceased to be an investment company. Applicant transferred its assets to Grosvenor Registered Multi-Strategy Fund (TI2), LLC, and on January 1, 2013, made a distribution to its shareholders based on net asset value. Applicant has retained $24,109 in outstanding assets to pay off its outstanding liabilities. Expenses of $152,274 incurred in connection with the reorganization were paid by Grosvenor Registered Multi-Strategy Master Fund, LLC, applicant's master fund.

Filing Date: The application was filed on September 13, 2013.

Applicant's Address: 900 North Michigan Ave., Suite 1100, Chicago, IL 60611.

RiverSource Dimensions Series Inc.

[File No. 811-1629]

Summary: Applicant seeks an order declaring that it has ceased to be an investment company. Applicant has transferred its assets to corresponding series of Columbia Funds Series Trust and Columbia Funds Series Trust I, and, on May 31, 2011, made a distribution to its shareholders based on net asset value. Expenses of $82,382 incurred in connection with the reorganization were paid by applicant and applicant's investment adviser, Columbia Management Investment Advisers, LLC.

Filing Dates: The application was filed on March 8, 2013, and amended on July 17, 2013, and September 11, 2013.

Applicant's Address: 901 Marquette Ave. South, Suite 2810, Minneapolis, MN 55402-3268.

Seligman Growth Fund, Inc.

[File No. 811-229]

Seligman LaSalle Real Estate Fund Series, Inc.

[File No. 811-21365]

Summary: Each applicant seeks an order declaring that it has ceased to be an investment company. Applicants transferred their assets to corresponding series of Columbia Fund Series Trust I, and on or prior to April 5, 2011, made final distributions to their shareholders based on net asset value. Expenses of $729,844 and $77,689, respectively, incurred in connection with the reorganization were paid by applicants and Columbia Management Investment Advisers, LLC, applicants' investment adviser.

Filing Date: The applications were filed on September 10, 2013.

Applicants' Address: 901 Marquette Avenue South, Suite 2810, Minneapolis, MN 55402-3268.

International Equity Portfolio/MA

[File No. 811-21867]

Summary: Applicant seeks an order declaring that it has ceased to be an investment company. On April 21, 2011, applicant made a liquidating distribution to its shareholders, based on net asset value. Applicant incurred no expenses in connection with the liquidation.

Filing Dates: The application was filed on November 30, 2012, and amended on September 20, 2013.

Applicant's Address: Two International Place, Boston, MA 02110.

For the Commission, by the Division of Investment Management, pursuant to delegated authority.
Kevin M. O'Neill,
Deputy Secretary.

[FR Doc. 2013-24222 Filed 10-2-13; 8:45 am]

BILLING CODE 8011-01-P